DEPARTMENT OF ENERGY

Federal Energy Regulatory Commission

[Project No. 14227-003]

Nevada Hydro Inc.; Notice of Anticipated Schedule for Lake Elsinore Advanced Pumped Storage Project

On October 2, 2017, Nevada Hydro Inc. filed an application requesting authorization to construct and operate the Lake Elsinore Advanced Pumped Storage Project. The project would be located on Lake Elsinore and San Juan Creek near the town of Lake Elsinore in Riverside and San Diego Counties, California. The project would occupy about 845 acres of federal land administered by the U.S. Forest Service.

The application will be processed according to the following revised schedule.

Notice of Ready for Environmental Analysis: December 11, 2020

Draft Environmental Impact Statement: July 9, 2021

Final Environmental Impact Statement: December 10, 2021

In addition, in accordance with Title 41 of the Fixing America's Surface Transportation Act, enacted on December 4, 2015, agencies are to publish completion dates for all federal environmental reviews and authorizations. This notice identifies the Commission's anticipated schedule for issuance of the final order for the project, which is based on the anticipated date of issuance of the final Environmental Impact Statement. Accordingly, we currently anticipate issuing a final order for the project no later than:

Issuance of Final Order March 17, 2022

If a schedule change becomes necessary, an additional notice will be provided so that interested parties and government agencies are kept informed of the project's progress.

Dated: August 27, 2020.
Nathaniel J. Davis, Sr.,
Deputy Secretary.

[FR Doc. 2020-19384 Filed 9-1-20; 8:45 am]

BILLING CODE 6717-01-P